DEPARTMENT OF COMMERCE

International Trade Administration

[A-533-857]

Certain Oil Country Tubular Goods From India: Notice of Correction to the Amended Final Determination and Amendment of the Antidumping Duty Order

AGENCY: Enforcement and Compliance, International Trade Administration, Department of Commerce.

SUMMARY: The Department of Commerce (Commerce) is correcting the amended final antidumping duty determination and order for certain oil country tubular goods (OCTG) from India with respect to the “all-others” companies.

DATES: March 26, 2017.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION: On July 18, 2014, Commerce published its final determination of sales at LTFV and final negative determination of critical circumstances in this proceeding.¹ As part of the Final Determination, Commerce calculated an all-others rate of 5.79 percent.² A summary of that determination and resulting litigation can be found in the Amended Final Determination, which was published in the Federal Register on April 12, 2017.³ Subsequently, Commerce issued an Amended Order, which was published in the Federal Register on June 20, 2017.⁴ Commerce then published a correction to the Amended Final Determination and to the Amended Order on July 28, 2017.⁵ Commerce is now issuing a second correction to the Amended Final Determination and to the Amended Order as they concern the rate for all other producers and exporters. The rates for the two mandatory respondents remain unchanged.

¹ See Final Determination of Sales at Less Than Fair Value and Final Negative Determination of Critical Circumstances: Certain Oil Country Tubular Good from India, 79 FR 41981 (July 18, 2014) (Final Determination), and accompanying issues and decision memorandum (IDM).

² Id., 79 FR at 41982.

³ See Certain Oil Country Tubular Goods from India: Notice of Court Decision Not in Harmony with Final Determination of Sales at Less Than Fair Value and Final Negative Determination of Critical Circumstances and Notice of Amended Final Determination, 82 FR 17631 (April 12, 2017) (Amended Final Determination).

⁴ See Certain Oil Country Tubular Goods from India: Amendment of Antidumping Duty Order, 82 FR 28045 (June 20, 2017) (Amended Order).

⁵ See Certain Oil Country Tubular Goods from India: Notice of Correction to Amended Final Determination and Amendment of Antidumping Duty Order, 82 FR 35182 (July 28, 2017) (Correction to Amended Final Determination and Amendment of the Order).

In June 2018, U.S. Steel sought to enforce the final judgment of the United States Court of International Trade (CIT) that is referenced in the Amended Final Determination.⁶ Specifically, U.S. Steel requested that the Court require Commerce to recalculate the all-others rate consistent with the revised weighted-average dumping margins reflected in the Amended Final Determination and Amended Order.⁷ On October 17, 2018, the CIT granted, in part, U.S. Steel's motion for enforcement of judgment in U.S. Steel II, and ordered Commerce to issue a revised notice, recalculating the all-others rate.⁸

⁶ See Amended Final Determination, 82 FR at 17631 (citing United States Steel Corp. v. United States, 219 F. Supp. 3d 1300 (CIT 2017) (U.S. Steel II)).

⁷ See Amended Order; see also Correction to Amended Final Determination and Amendment of the Order.

⁸ See United States Steel Corp. v. United States, Consol. Ct. No. 14-00263, Slip Op. 18-139 (CIT October 17, 2018) (U.S. Steel Enforcement Order).

On October 17, 2018, the CIT granted, in part, plaintiff U.S. Steel's motion to enforce the Court's March 16, 2017, order sustaining the remand redetermination by Commerce pertaining to the less-than-fair-value (LTFV) investigation of OCTG from India. Accordingly, Commerce is issuing this notice to correct its earlier amended final determination and amended antidumping duty order with respect to the all-others rate.

Correction to the Amended Final Determination

We are correcting the Amended Final Determination to reflect the recalculated all-others rate. The relevant text of the Amended Final Determination should have appeared as follows:

Amended Final Determination

Because there is now a final court decision, Commerce is amending the Final Determination with respect to GVN single entity (comprised of GVN Fuels Limited, Maharashtra Seamless Limited and Jindal Pipes Limited),⁹ Jindal SAW, Limited, and the “all-others” companies. The revised weighted-average dumping margins for the period July 1, 2012, through June 30, 2013, are as follows:

⁹ See Final Determination, 79 FR at 41982, and accompanying IDM at Comment 9.

Exporter or producer | Estimated weighted-average dumping margins (percent) | Cash deposit rate (percent) ¹⁰
GVN Fuels Limited, Maharashtra Seamless Limited and Jindal Pipes Limited (collectively, GVN or GVN single entity) | 1.07 (de minimis) | 0.00
Jindal SAW, Limited | 11.24 | 0.00
All-Others | 11.24 ¹¹ | 0.60 ¹²

Amended Cash Deposit Rates

Neither the GVN single entity nor Jindal SAW, Limited have a superseding cash deposit rate (e.g., from a subsequent administrative review) and, therefore, Commerce will issue revised cash deposit instructions to U.S. Customs and Border Protection. The revised cash deposit rates are indicated above, and effective March 26, 2017.

¹⁰ Cash deposit rates are lower than estimated weighted-average dumping margins due to offsets for export subsidies.

¹¹ The all-others weighted-average dumping margin is based on the rate calculated for Jindal SAW, the only above de minimis rate calculated in this proceeding.

¹² See Memorandum, “Calculation of Export Subsidy Rate for All Others,” dated concurrently with this notice.

¹³ Cash deposit rates are lower than estimated weighted-average dumping margins due to offsets for export subsidies.

The all-others cash deposit rate, effective March 26, 2017, will be 0.60 percent, the weighted average all-others dumping margin adjusted by the rate of export subsidies determined for all-other producers and exporters in the companion CVD investigation.

Correction to the Amended Order

We are correcting the Amended Order to reflect the recalculated all-others rate. The relevant text of the Amended Order should have appeared as follows:

Estimated Weighted-Average Dumping Margins

The estimated weighted-average dumping margins are as follows:

Exporter or producer | Estimated weighted-average dumping margins (percent) | Cash deposit rate (percent) ¹³
Jindal SAW, Limited | 11.24 | 0.00
All-Others | 11.24 | 0.60

This correction to the Amended Final Determination and to the Amended Order is issued and published in accordance with sections 735(d), 736(a), and 777(i) of the Tariff Act of 1930, as amended.

Dated: November 19, 2018.
Gary Taverman,
Deputy Assistant Secretary for Antidumping and Countervailing Duty Operations, performing the non-exclusive functions and duties of the Assistant Secretary for Enforcement and Compliance.

[FR Doc. 2018-25516 Filed 11-21-18; 8:45 am]

BILLING CODE 3510-DS-P